INTERNATIONAL TRADE COMMISSION

[USITC SE-19-046]

Sunshine Act Meetings

Agency Holding the Meeting: United States International Trade Commission.

TIME AND DATE: December 18, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-614 and 731-TA-1431 (Final) (Magnesium from Israel). The Commission is currently scheduled to complete and file its determinations and views of the Commission by January 6, 2020.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: December 10, 2019.
William Bishop,
Supervisory Hearings and Information Officer.

[FR Doc. 2019-26936 Filed 12-10-19; 4:15 pm]

BILLING CODE 7020-02-P